DEPARTMENT OF THE INTERIOR

Fish and Wildlife Service

50 CFR Part 17

[Docket No. FWS-R8-ES-2010-0049; 4500030113]

RIN 1018-AX89

Endangered and Threatened Wildlife and Plants; 12-Month Petition Finding and Proposed Listing of Arctostaphylos franciscana as Endangered

AGENCY: Fish and Wildlife Service, Interior.

ACTION: Proposed rule; reopening of comment period.

SUMMARY: We, the U.S. Fish and Wildlife Service (Service), announce the reopening of the public comment period on our September 8, 2011, combined 12-month petition finding and proposed rule to list Arctostaphylos franciscana (Franciscan manzanita) as endangered and designate critical habitat under the Endangered species Act of 1973, as amended (Act). In the proposed rule, we found that critical habitat was not determinable at the time because we did not have sufficient information on what physical and biological features would be essential to the conservation of the species, or what other areas outside the known occupied site may be essential for the conservation of the species. The Service seeks data and comments from the public on this proposed listing rule and whether the designation of critical habitat for the species is prudent and determinable. We are reopening the comment period to allow all interested parties an additional opportunity to comment on the proposed rule and to submit information on the status of the species. Comments previously submitted need not be resubmitted, as they will be fully considered in preparation of the final rule.

DATES: We will accept comments received or postmarked on or before June 20, 2012. Comments submitted electronically using the Federal eRulemaking Portal (see ADDRESSES section, below) must be received by 11:59 p.m. Eastern Time on the closing date.

ADDRESSES: Document availability: You may obtain copies of the proposed rule on the Internet at http://www.regulations.gov at Docket Number FWS-R8-ES-2010-0049, or by mail from the Sacramento Fish and Wildlife Office (see FOR FURTHER INFORMATION CONTACT).

Comment submission: You may submit written comments by one of the following methods:

(1) Electronically: Go to the Federal eRulemaking Portal: http://www.regulations.gov. In the Search box, enter FWS-R8-ES-2010-0049, which is the docket number for this rulemaking. Then, on the left side of the screen, under the Document Type heading, click on the Proposed Rules link to locate this document and submit a comment.

(2) By hard copy: Submit by U.S. mail or hand-delivery to: Public Comments Processing, Attn: FWS-R8-ES-2010-0049; Division of Policy and Directives Management; U.S. Fish and Wildlife Service; 4401 N. Fairfax Drive, MS 2042-PDM; Arlington, VA 22203.

We request that you send comments only by the methods described above. We will post all information received on http://www.regulations.gov. This generally means that we will post any personal information you provide us (see the Public Comments section below for more information).

FOR FURTHER INFORMATION CONTACT: Karen Leyse, Listing Coordinator, Sacramento Fish and Wildlife Office, 2800 Cottage Way, Room W-2605, Sacramento, CA 95825; by telephone at 916-414-6600; or by facsimile at 916-414-6712. If you use a telecommunications device for the deaf (TDD), please call the Federal Information Relay Service (FIRS) at 800-877-8339.

SUPPLEMENTARY INFORMATION:

Background

On September 8, 2011 (76 FR 55623), we published in the Federal Register a combined 12-month finding and proposed rule to list Arctostaphylos franciscana as endangered. That proposal had a 60-day comment period, ending November 7, 2011. We received no requests for a public hearing; therefore, no public hearing will be held.

Public Comments

We will accept written comments and information during this reopened comment period on our proposed listing for Arctostaphylos franciscana that published in the Federal Register on September 8, 2011 (76 FR 55623). We will consider information and recommendations from all interested parties. We intend that any final action resulting from this proposal be as accurate as possible and based on the best available scientific and commercial data. For more information on the specific information we are seeking, please see the September 8, 2011, proposed listing rule (76 FR 55623).

If you previously submitted comments or information on the proposed rule, please do not resubmit them. We have incorporated them into the public record, and we will fully consider them in the preparation of our final determination. Our final determination concerning this proposed listing and critical habitat will take into consideration all written comments and any additional information we receive.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R8-ES-2010-0049, or by appointment, during normal business hours, at the U.S. Fish and Wildlife Service, Sacramento Fish and Wildlife Office (see FOR FURTHER INFORMATION CONTACT). You may obtain copies of the proposed rule on the Internet at http://www.regulations.gov at Docket No. FWS-R8-ES-2010-0049, or by mail from the Sacramento Fish and Wildlife Office (see FOR FURTHER INFORMATION CONTACT).

Authority: The authority for this action is the Endangered Species Act of 1973 (16 U.S.C. 1531 et seq.).

Dated: May 23, 2012.
Gregory E. Siekaniec,
Deputy Director, U.S. Fish and Wildlife Service.

[FR Doc. 2012-13487 Filed 6-4-12; 8:45 am]

BILLING CODE 4310-55-P